FEDERAL COMMUNICATIONS COMMISSION

47 CFR Chapter I

[WT Docket No. 08-7; DA 15-1169]

WTB Seeks Comment on a Petition for Declaratory Ruling Clarifying the Regulatory Status of Mobile Messaging Services

AGENCY: Federal Communications Commission.

ACTION: Proposed rule.

SUMMARY: In this document, the Federal Communications Commission's Wireless Telecommunications Bureau (Bureau) seeks comment on a petition for declaratory ruling on the regulatory status of mobile messaging services.

DATES: Comments are due November 20, 2015. Reply Comments are due December 21, 2015.

ADDRESSES: Pursuant to sections 1.415 and 1.419 of the Commission's rules, 47 CFR 1.415 and 1.419, interested parties may file comments and reply comments on or before the dates indicated above. All filings should refer to WT Docket No. 08-7. Comments may be filed using the Commission's Electronic Comment Filing System (ECFS).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW., Room TW-A325, Washington, DC 20554. The filing hours are 8 a.m. to 7 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington, DC 20554.

People with Disabilities: To request materials in accessible formats for people with disabilities (braille, large print, electronic files, audio format), send an email to fcc504@fcc.gov or call the Consumer & Governmental Affairs Bureau at (202) 418-0530 (voice), (202) 418-0432 (tty).

FOR FURTHER INFORMATION CONTACT: Daniel Ball, Wireless Telecommunications Bureau, 202-418-1310, email Daniel.Ball@fcc.gov or Pramesh Jobanputra, Wireless Telecommunications Bureau, 202-418-1323, email Pramesh.Jobanputra@fcc.gov.

SUPPLEMENTARY INFORMATION: This is a summary of the Bureau's Public Notice, DA No. 15-1169 WT Docket No 08-7, released October 13, 2015. The full text of this document is available for inspection and copying during business hours in the FCC Reference Information Center, Portals II, 445 12th Street SW., Room CY-A257, Washington, DC 20554. Also, it may be purchased from the Commission's duplicating contractor at Portals II, 445 12th Street SW., Room CY-B402, Washington, DC 20554; Copies of the Public Notice also may be obtained via ECFS by entering the docket number WT Docket 15-180; DA No. 15-865. Additionally, the complete item is available on the Federal Communications Commission's Web site at http://www.fcc.gov.

By this Public Notice, the Wireless Telecommunications Bureau seeks comment on a petition for a declaratory ruling on the regulatory status of mobile messaging services.

On August 28, 2015, Twilio Inc. filed a petition for an expedited declaratory ruling, asking the Commission “to declare that messaging services are governed by Title II” of the Communications Act. Today's Public Notice seeks comment on the Twilio Petition and seeks to refresh the record in this proceeding in light of marketplace and legal developments since the Commission sought comment in 2008 on a similar petition.

Twilio describes itself as a “cloud-based developer-platform company” that facilitates “merging cloud computing, web services, and traditional voice and messaging communications.” In its Petition, Twilio asserts that wireless providers engage in a variety of discriminatory and anti-competitive practices that cannot be adequately addressed absent a declaratory ruling classifying messaging services under Title II. Twilio further asserts that, under judicial and Commission precedent, messaging services constitute telecommunications services and commercial mobile radio services and are thus subject to Title II.

The Commission invites comment on the issues raised in the Twilio Petition and the Commission seeks to refresh the record on the Joint Petition. The Commission invites commenters to offer detailed estimates—numerical estimates if available—of any costs or benefits claimed.

This proceeding has been designated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b).

In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Roger Sherman,
Bureau Chief, Wireless Telecommunications Bureau.

[FR Doc. 2015-27899 Filed 11-9-15; 8:45 am]

BILLING CODE 6712-01-P